DEPARTMENT OF COMMERCE

International Trade Administration

A-533-845

Notice of Final Determination of Sales at Less Than Fair Value: Glycine from India

AGENCY: Import Administration, International Trade Administration, Department of Commerce.

EFFECTIVE DATE: March 28, 2008.

SUMMARY: On November 7, 2007, the Department of Commerce published its preliminary determination and amended preliminary determination, respectively, of the investigation of sales at less than fair value in the antidumping duty investigation of glycine from India. See Notice of Preliminary Determination of Sales at Less Than Fair Value: Glycine From India, 72 FR 62827 (November 7, 2007), and Notice of Amended Preliminary Determination of Sales at Less Than Fair Value: Glycine From India, 72 FR 62826 (November 7, 2007).

The Department of Commerce has determined that glycine from India is being, or is likely to be, sold in the United States at less than fair value, as provided in section 735 of the Tariff Act of 1930, as amended (the Act). The estimated margins of sales at less than fair value are listed below in the section entitled “Final Determination of Investigation.”

FOR FURTHER INFORMATION CONTACT: George Callen or Richard Rimlinger, AD/CVD Operations, Office 5, Import Administration, International Trade Administration, U.S. Department of Commerce, 14th Street and Constitution Avenue, NW, Washington, DC 20230; telephone: (202) 482-0180 or (202) 482-4477, respectively.

SUPPLEMENTARY INFORMATION:

Case History

The preliminary and amended preliminary determinations in this investigation were published on November 7, 2007. See Notice of Preliminary Determination of Sales at Less Than Fair Value: Glycine From India, 72 FR 62827 (November 7, 2007) (Preliminary Determination), and Notice of Amended Preliminary Determination of Sales at Less Than Fair Value: Glycine From India, 72 FR 62826 (November 7, 2007). Since then, we determined that an allegation of critical circumstances submitted by the petitioner on October 12 and 25, 2007, was inadequate. See Memorandum from Kristin Case to Laurie Parkhill dated November 13, 2007. We have also conducted sales and cost verifications of the responses submitted by Paras Intermediates, Ltd. (Paras). See Memoranda to the file entitled “Verification of the Sales Response of Paras Intermediates Pvt. Ltd. in the Antidumping Duty Investigation of Glycine from India” dated January 23, 2008, and “Verification of the Cost Response of Paras Intermediates Private Ltd, in the Antidumping Investigation of Glycine from India” dated February 20, 2008, available in the Central Records Unit (CRU), room 1117 of the main Department of Commerce building. On February 22, 2008, we released a memorandum entitled “Proposed Adjustments to the Cost of Production and Constructed Value Data Paras Intermediates Pvt. Ltd.” and invited interested parties to submit comments. We received a case brief from Paras on March 3, 2008; the petitioner, GEO Specialty Chemicals, Inc. (GEO), filed a rebuttal brief on March 5, 2008.

Analysis of Comments Received

All issues raised in the case and rebuttal briefs by parties to this antidumping investigation are addressed in the “Issues and Decision Memorandum for the Antidumping Duty Investigation of Glycine from India for the Period of Investigation January 1, 2006, through December 31, 2006” (Decision Memorandum) from Stephen J. Claeys, Deputy Assistant Secretary for Import Administration, to David M. Spooner, Assistant Secretary for Import Administration, dated March 21, 2008, which is hereby adopted by this notice. A list of the issues which parties have raised and to which we have responded, all of which are in the Decision Memorandum, is attached to this notice as an appendix. Parties can find a complete discussion of all issues raised in this investigation and the corresponding recommendations in the Decision Memorandum which is on file in CRU. In addition, a complete version of the Decision Memorandum can be accessed directly on the Web at http://ia.ita.doc.gov/. The paper copy and electronic version of the Decision Memorandum are identical in content.

Scope of Investigation

The merchandise covered by this investigation is glycine, which in its solid, i.e., crystallized, form is a free-flowing crystalline material. Glycine is used as a sweetener/taste enhancer, buffering agent, reabsorbable amino acid, chemical intermediate, metal complexing agent, dietary supplement, and is used in certain pharmaceuticals. The scope of this investigation covers glycine in any form and purity level. Although glycine blended with other materials is not covered by the scope of this investigation, glycine to which relatively small quantities of other materials have been added is covered by the scope. Glycine's chemical composition is C2H5NO2 and is normally classified under subheading 2922.49.4020 of the Harmonized Tariff Schedule of the United States (HTSUS).

The scope of this investigation also covers precursors of dried crystalline glycine, including, but not limited to, glycine slurry, i.e., glycine in a non-crystallized form, and sodium glycinate. Glycine slurry is classified under the same HTSUS subheading as crystallized glycine (2922.49.4020) and sodium glycinate is classified under subheading HTSUS 2922.49.8000.

While HTSUS subheadings are provided for convenience and customs purposes, the written description of the scope of this investigation is dispositive.

Period of Investigation

The period of investigation is from January 1, 2006, through December 31, 2006.

Changes Since the Preliminary Determination

Based on our analysis of the comments received and our findings at verification, we have made certain changes to the margin calculation for Paras. For a discussion of these changes, see memorandum from George Callen to The File entitled “Glycine from India - Final Determination of Sales at Less Than Fair Value Analysis Memorandum for Paras” dated March 21, 2008, and the memorandum from Angela Strom to Neal Halper entitled “Cost of Production and Constructed Value Calculation Adjustments for the Final Determination Paras Intermediates Pvt. Ltd.” dated March 21, 2008.

Adverse Facts Available

For the final determination, we continue to find that, by failing to provide information we requested, certain producers and/or exporters of glycine from India did not act to the best of their ability in responding to our requests for information. Thus, the Department continues to find that the use of adverse facts available is warranted for these companies under sections 776(a)(2) and (b) of the Act. See Preliminary Determination, 72 FR at 62829. As we explained in the Preliminary Determination, the rate of 121.62 percent we selected as the adverse facts-available rate is the highest margin alleged in the petition, as recalculated in the April 19, 2007, “Office of AD/CVD Operations Initiation Checklist for the Antidumping Duty Petition on Glycine from India” (the Initiation Checklist) on file in CRU. See also Petition for the Imposition of Antidumping Duties on Imports of Glycine from India, Japan, and the Republic of Korea filed on March 30, 2007 (the Petition), and the April 3, 12, 13, 17, and 18, 2007, supplements to the Petition submitted by GEO. We selected this rate from the range of margins we re-calculated in the Initiation Checklist in Glycine from India, Japan, and the Republic of Korea: Initiation of Antidumping Duty Investigations, 72 FR 20816 (April 26, 2007) (Initiation Notice). Further, as discussed in the Preliminary Determination, we corroborated the adverse facts-available rate pursuant to section 776(c) of the Act.

All-Others Rate

Section 735(c)(5)(A) of the Act provides that the estimated all-others rate shall be an amount equal to the weighted-average of the estimated weighted-average dumping margins established for exporters and producers individually investigated, excluding any zero and de minimis margins and any margins determined entirely under section 776 of the Act. For this final determination we have calculated a margin for Paras that is above de minimis. Therefore, for purposes of determining the all-others rate and pursuant to section 735(c)(5)(A) of the Act, because other respondents are receiving margins based on adverse facts available, we are using the dumping margin we have calculated for Paras as indicated in the “Final Determination of Investigation” section below.

Final Determination of Investigation

We determine that the following weighted-average dumping margins exist for the period January 1, 2006, through December 31, 2006:

Manufacturer or Exporter | Margin (percent)
Paras Intermediates, Ltd. | 10.90
Abhiyan Media Pvt. Ltd. | 121.62
Advanced Exports/Aico Laboratories | 121.62
Ashok Alco-Chem, Ltd. | 121.62
Bimal Pharma, Pvt., Ltd. | 121.62
Euro Asian Industrial Co. | 121.62
EPIC Enzymes Pharmaceuticals & Industrial | 121.62
Indian Chemical Industries | 121.62
Kumar Industries | 121.62
Nutracare International/Salvi Chemical Industries | 121.62
Sisco Research Laboratories Pvt. Ltd | 121.62
Sealink International, Inc. | 121.62
All Others | 10.90

Continuation of Suspension of Liquidation

Pursuant to section 735(c)(1)(B) of the Act and 19 CFR 351.211(b)(1), we will instruct U.S. Customs and Border Protection (CBP) to continue to suspend liquidation of all entries of subject merchandise from India entered, or withdrawn from warehouse, for consumption on or after November 7, 2007, the date of the publication of Preliminary Determination, for all producers/exporters other than Paras. Because we found Paras to have a de minimis margin in the Preliminary Determination, we will instruct U.S. Customs and Border Protection (CBP) to suspend liquidation of all entries of subject merchandise from India from Paras and entered, or withdrawn from warehouse, for consumption on or after the date of the publication of this final determination. We will instruct CBP to require a cash deposit or the posting of a bond equal to the weighted-average margin, as indicated in the chart above, as follows: (1) the rate for the respondents will be the rates we have determined in this final determination; (2) if the exporter is not a firm identified in this investigation but the producer is, the rate will be the rate established for the producer of the subject merchandise; (3) the rate for all other producers or exporters will be 10.90 percent. These suspension-of-liquidation instructions will remain in effect until further notice.

International Trade Commission Notification

In accordance with section 735(d) of the Act, we have notified the International Trade Commission (ITC) of our final determination. As our final determination is affirmative and in accordance with section 735(b)(2) of the Act, the ITC will determine, within 45 days, whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: March 21, 2008.
David M. Spooner,
Assistant Secretary for Import Administration.

Appendix

Comment 1: Work-in-Process Inventories

Comment 2: Recovery of Bad Debts

Comment 3: Duty Drawback

Comment 4: Interest Income Offset

Comment 5: Appropriate Sales Database to Use

[FR Doc. E8-6450 Filed 3-27-08; 8:45 am]

Billing Code: 3510-DS-S